COMMISSION ON CIVIL RIGHTS

Agenda and Notice of Public Meeting of the South Dakota Advisory Committee

AGENCY: Commission on Civil Rights.

ACTION: Announcement of meeting.

SUMMARY: Notice is hereby given, pursuant to the provisions of the rules and regulations of the U.S. Commission on Civil Rights (Commission), and the Federal Advisory Committee Act (FACA), that a briefing of the South Dakota Advisory Committee to the Commission will convene on Wednesday, September 16, 2020 at 3:00 p.m. (CDT), via teleconference. The purpose of the meeting is hearing from speakers on the Committee's topic on maternal health disparities of Native American women.

DATES: Wednesday, September 16, 2020 from 3:00 p.m.-5:00 p.m. (CDT).

ADDRESSES:

Public Call-In Information: Dial: 1-800-367-2403; conference ID: 9800799.

TDD: Dial Federal Relay Service 1-800-877-8339 and give the operator the above conference call number and conference ID.

FOR FURTHER INFORMATION CONTACT: Mallory Trachtenberg, mtrachtenberg@usccr.gov, (202) 809-9618.

SUPPLEMENTARY INFORMATION: Members of the public may listen to the discussion by dialing the following Conference Call Toll-Free Number: 1-800-367-2403; conference ID: 9800799. Please be advised that before being placed into the conference call, the operator will ask callers to provide their names, their organizational affiliations (if any), and an email address (if available) prior to placing callers into the conference room. Callers can expect to incur charges for calls they initiate over wireless lines, and the Commission will not refund any incurred charges. Callers will incur no charge for calls they initiate over land-line connections to the toll-free phone number.

Persons with hearing impairments may also follow the discussion by first calling the Federal Relay Service (FRS) at 1-800-877-8339 and provide the FRS operator with Conference Call Toll-Free Number: 1-800-367-2403; conference ID: 9800799. Members of the public are invited to submit written comments; the comments must be received within 30 days of the meeting date. Written comments may be emailed to Mallory Trachtenberg at mtrachtenberg@usccr.gov. Persons who desire additional information may contact the Regional Programs Unit at (202) 809-9618.

Records and documents discussed during the meeting will be available for public viewing as they become available at the FACA Link and clicking on the “Meeting Details” and “Documents” links. Records generated from this meeting may also be inspected and reproduced at the Midwestern Regional Office, as they become available, both before and after the meeting. Persons interested in the work of this advisory committee are advised to go to the Commission's website, www.usccr.gov, or to contact the Midwestern Regional Office at the above phone number, email address.

Agenda

Wednesday, September 16, 2020 at 3:00 p.m. (CDT)

I. Welcome and Roll Call

II. Announcements and Updates

III. Approval of Minutes From the Last Meeting

IV. Briefing: Maternal Health Disparities of Native American Women

V. Next Steps

VI. Public Comment

VII. Adjournment

Dated: August 20, 2020.
David Mussatt,
Supervisory Chief, Regional Programs Unit.

[FR Doc. 2020-18643 Filed 8-24-20; 8:45 am]

BILLING CODE P